DEPARTMENT OF AGRICULTURE

Animal and Plant Health Inspection Service

9 CFR Part 3

[Docket No. APHIS-2014-0098]

Petition To Develop Specific Ethologically Appropriate Standards for Nonhuman Primates in Research

AGENCY: Animal and Plant Health Inspection Service, USDA.

ACTION: Notice of petition; reopening of comment period.

SUMMARY: We are reopening the comment period for a petition requesting that we amend the Animal Welfare Act regulations to specify ethologically appropriate standards that researchers must adhere to in order to promote the psychological well-being of nonhuman primates used in research. This action will allow interested persons additional time to prepare and submit comments.

DATES: The comment period for the notice published May 1, 2015 (80 FR 24840-24841) is reopened. We will consider all comments that we receive on or before August 31, 2015.

ADDRESSES: You may submit comments by either of the following methods:

• Federal eRulemaking Portal: Go to http://www.regulations.gov/#!docketDetail;D=APHIS-2014-0098.

• Postal Mail/Commercial Delivery: Send your comment to Docket No. APHIS-2014-0098, Regulatory Analysis and Development, PPD, APHIS, Station 3A-03.8, 4700 River Road Unit 118, Riverdale, MD 20737-1238.

Supporting documents and any comments we receive on this docket may be viewed at http://www.regulations.gov/#!docketDetail;D=APHIS-2014-0098 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Carol Clarke, Research Program Manager, USDA, APHIS, Animal Care, 4700 River Road Unit 84, Riverdale, MD 20737-1234; (301) 851-3751.

SUPPLEMENTARY INFORMATION:

Background

On May 1, 2015, the Animal and Plant Health Inspection Service published in the Federal Register (80 FR 24840-24841, Docket No. APHIS-2014-0098) a notice ¹ requesting comments on a petition to amend the Animal Welfare Act regulations to specify ethologically appropriate standards that researchers must adhere to in order to promote the psychological well-being of nonhuman primates used in research.

¹ To view the notice, supporting documents, and the comments we received, go to http://www.regulations.gov/#!docketDetail;D=APHIS-2014-0098.

Comments on the notice were required to be received on or before June 30, 2015. We are reopening the comment period on Docket No. APHIS-2014-0098 for an additional 60 days, until August 31, 2015. We will accept all comments received between July 1, 2015 (the day after the close of the original comment period) and the date of this notice. This action will allow interested persons additional time to prepare and submit comments.

We encourage the submission of scientific data, studies, or research to support your comments and position. We also invite data on the costs and benefits associated with any recommendations. We will consider all comments and recommendations received.

Authority: 7 U.S.C. 2131-2159; 7 CFR 2.22, 2.80, and 371.7.

Done in Washington, DC, this 20th day of July 2015.
Kevin Shea,
Administrator, Animal and Plant Health Inspection Service.

[FR Doc. 2015-18174 Filed 7-23-15; 8:45 am]

BILLING CODE 3410-34-P